NATIONAL AERONAUTICS AND SPACE ADMINISTRATION

[Notice (18-021)]

Notice of Intent To Grant Partially Exclusive Patent License

AGENCY: National Aeronautics and Space Administration

ACTION: Notice of intent to grant partially exclusive patent license.

SUMMARY: NASA hereby gives notice of its intent to grant a partially exclusive patent license in the United States to practice the inventions described and claimed in U.S. Patent No. 7,285,306 entitled, “Process For Self-Repair Of Insulation Material,” KSC-12539; U.S. Patent No. 8,119,238 entitled, “Self-Healing Wire Insulation,” KSC-12539-2; and U.S. Patent Application Serial Number 13/523,806 entitled, “Self-Healing Polymer Materials for Wire Insulation, Polyimides, Flat Surfaces, and Inflatable Structures,” KSC-13366, to Drywired, LLC, having its principal place of business in Los Angeles, CA. Drywired, LLC has requested exclusivity for the following fields of use:

1. Wraps, films, and decals that can be applied to the exterior of vehicles with at least four wheels;

2. Wraps, films, and decals that can be applied to buildings, structures, or permanent improvements built upon or attached to real property; and

3. Coverings and insulations for electrical wiring and communications wiring in the following industries:

a. Mining

b. Unmanned Aerial Vehicles (UAVs)

DATES: The prospective partially exclusive patent license may be granted unless, NASA receives written objections, including evidence and argument, no later than March 28, 2018 that establish that the grant of the license would not be consistent with the requirements regarding the licensing of federally owned inventions as set forth in the Bayh-Dole Act and implementing regulations. Competing applications completed and received by NASA no later than March 28, 2018 will also be treated as objections to the grant of the contemplated partially exclusive license. Objections submitted in response to this notice will not be made available to the public for inspection and, to the extent permitted by law, will not be released under the Freedom of Information Act.

ADDRESSES: Objections relating to the prospective license may be submitted to Patent Counsel, Office of the Chief Counsel, Mail Code CC-A, NASA John F. Kennedy Space Center, Kennedy Space Center, FL 32899. Telephone: 321-867-2076; Facsimile: 321-867-1817; email: KSC-Patent-Counsel@mail.nasa.gov.

FOR FURTHER INFORMATION CONTACT: Jonathan Leahy, Patent Attorney, Office of the Chief Counsel, Mail Code CC-A, NASA John F. Kennedy Space Center, Kennedy Space Center, FL 32899. Telephone: 321-867-6553; Facsimile: 321-867-1817.

SUPPLEMENTARY INFORMATION: This notice of intent to grant a partially exclusive patent license is issued in accordance with 35 U.S.C. 209(e) and 37 CFR 404.7(a)(1)(i). The patent rights in these inventions have been assigned to the United States of America as represented by the Administrator of the National Aeronautics and Space Administration. The prospective exclusive license will comply with the requirements of 35 U.S.C. 209 and 37 CFR 404.7.

Information about other NASA inventions available for licensing can be found online at http://technology.nasa.gov.

Mark P. Dvorscak,
Agency Counsel for Intellectual Property.

[FR Doc. 2018-05054 Filed 3-12-18; 8:45 am]

BILLING CODE 7510-13-P